DEPARTMENT OF AGRICULTURE

National Agricultural Library; Notice of Intent To Seek Approval To Collect Information

AGENCY: USDA, Agricultural Research Service, National Agricultural Library.

ACTION: Notice and request for comments.

SUMMARY: In accordance with the Paperwork Reduction Act of 1995 (Pub. L. 104-13) and Office of Management and Budget (OMB) regulations at 5 CFR Part 1320 (60 FR 44978, August 29, 1995), this notice announces the National Agricultural Library's intent to request renewal for information collection relating to existing nutrition education materials (i.e. recipes and cookbooks) targeting low-income and Food Stamp Program-eligible persons. This voluntary form gives Food Stamp Nutrition Education (FSNE) providers the opportunity to share resources that they have developed or used.

DATES: Comments on this notice must be received by 65 days after date of publication in the Federal Register to be assured of consideration.

ADDRESSES: Address all comments concerning this notice to Gina Hundley Gomez, Technical Information Specialist, Food and Nutrition Information Center, National Agricultural Library, 10301 Baltimore Avenue, Beltsville, MD 20705-2351, telephone (301) 504-5368 or fax (301) 504-6409.

Submit electronic comments to ghundley@nal.usda.gov.

SUPPLEMENTARY INFORMATION: Title: Food Stamp Nutrition Connection Recipe Submission and Review Form.

OMB Number: 0518-0043.

Expiration Date: Three years from date of approval.

Type of Request: Existing data collection from Food Stamp nutrition education providers.

Abstract: The National Agricultural Library's Food Stamp Nutrition Connection (FSNC) http://foodstamp.nal.usda.gov resource system developed and maintains an on-line recipe database, the Recipe Finder, as a popular feature to the FSNC Web site. The purpose of the Recipe Finder database is to provide FSNE providers with low-cost, easy to prepare, healthy recipes for classes and demonstrations with FSNE participants. FSNC staff rely on these same educators to submit their best recipes for review, analysis and inclusion in the database. FSNC staff and FSNE providers alike benefit from the collecting and posting of feedback on the individual recipes based on educator experiences. Data collected using the voluntary Submission Form will help identify a person's eligibility to submit materials for this database. The Recipe Finder Submission Form allows FSNE providers to submit recipes on-line, saving time and money by eliminating the need to photocopy and mail or fax recipes. Data collected from the Recipe Review form will help educators share their successes or identify opportunities for added value when incorporating these recipes into their FSNE efforts.

This online submission form will continue to serve as an efficient vehicle which allows FSNC staff to communicate with FSNE providers and inform other interested parties of healthy recipes that are appropriate for low-income Americans.

Estimate of Burden for Recipe Submission Form

Public reporting burden for this collection of information is estimated to average 7.5 minutes per response.

Respondents: Food Stamp nutrition education providers.

Estimated Number of Respondents: 100 per year.

Estimated Total Annual Burden on Respondents: 12.5 hrs.

Estimate of Burden for Recipe Review Form

Public reporting burden for this collection of information is estimated to average 7 minutes per response.

Respondents: Food Stamp nutrition education providers.

Estimated Number of Respondents: 150 per year.

Estimated Total Annual Burden on Respondents: 17.5 hrs.

Comments

Comments are invited on (a) whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: March 12, 2008.
Antoinette Betschart,
Associate Administrator, ARS.

[FR Doc. E8-7048 Filed 4-3-08; 8:45 am]

BILLING CODE 3410-03-P